DEPARTMENT OF THE TREASURY

Submission for OMB Review; Comment Request

April 18, 2014.

The Department of the Treasury will submit the following information collection requests to the Office of Management and Budget (OMB) for review and clearance in accordance with the Paperwork Reduction Act of 1995, Public Law 104-13, on or after the date of publication of this notice.

DATES: Comments should be received on or before May 23, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Internal Revenue Service (IRS)

OMB Number: 1545-0895.

Type of Review: Revision of a currently approved collection.

Title: Form 3800, General Business Credit.

Form: Form 3800.

Abstract: Internal Revenue Code section 38 permits taxpayers to reduce their income tax liability by the amount of their general business credit, which is an aggregation of their investment credit, jobs credit, alcohol fuel credit, research credit, low-income housing credit, disabled access credit, enhanced oil recovery credit, etc. Form 3800 is used to figure the correct credit.

Affected Public: Businesses or other for-profit organizations; Farms; Individuals or households.

Estimated Annual Burden Hours: 8,345,000.

OMB Number: 1545-1395.

Type of Review: Extension without change of a currently approved collection.

Title: Form 8838—Consent to Extend the Time to Assess Tax Under Section 367—Gain Recognition Agreement.

Form: Form 8838.

Abstract: Form 8838 is used to extend the statute of limitations for U.S. persons who transfer stock or securities to a foreign corporation. A transferor must file the form if it enters into a gain recognition agreement pursuant to Internal Revenue Code section 367(a). A domestic corporation and distributee foreign corporation must file the form if a gain recognition agreement under section 367(e)(2) is entered into. This agreement allows the transferor to defer the payment of tax on the transfer. The IRS uses Form 8838 so that it may assess tax against the transferor after the expiration of the original statute of limitations.

Affected Public: Businesses or other for-profit organizations; Farms; Individuals or households.

Estimated Annual Burden Hours: 5,482.

OMB Number: 1545-1464.

Type of Review: Extension without change of a currently approved collection.

Title: IA-44-94 (Final) Deductibility, Substantiation, and Disclosure of Certain Charitable Contributions.

Abstract: Treasury Decision 8690 contains regulations that provide guidance regarding the allowance of certain charitable contribution deductions, the substantiation requirements for charitable contributions of $250 or more, and the disclosure requirements for quid pro quo contributions of $75 or more. These regulations will affect donee organizations and individuals and entities that make payments to donee organizations.

Affected Public: Individuals or households; Businesses or other for-profits; and Not-for-profit institutions.

Estimated Annual Burden Hours: 1,975,000.

OMB Number: 1545-1478.

Type of Review: Extension without change of a currently approved collection.

Title: INTL-9-95 (TD 8702—Final) Certain Transfers of Domestic Stock or Securities by U.S. Persons to Foreign Corporations.

Abstract: Transfers of stock or securities by U.S. persons in tax-free transactions are treated as taxable transactions when the acquirer is a foreign corporation, unless an exception applies (section 367(a)). Under the regulations, no U.S. person will qualify for an exception unless the U.S. target company complies with certain reporting requirements.

Affected Public: Businesses or other for-profit organizations.

Estimated Annual Burden Hours: 1,000.

OMB Number: 1545-1752.

Type of Review: Extension without change of a currently approved collection.

Title: Revenue Procedures 2008-38, 2008-39, 2008-40, 2008-41, and 2008-42.

Abstract: These Revenue Procedures provide procedures by which an issuer of a life insurance contract may (1) remedy a failure to account for charges for qualified additional benefits under the expense charge rule of Internal Revenue Code section 7702(c)(3)(B)(ii) [2008-38]; (2) remedy an inadvertent non-egregious failure to comply with the modified endowment contract rules under section 7702A [2008-39]; (3) remedy the failure of one or more contracts to meet the definition of a life insurance contract under section 7702(a) or to satisfy requirements of section 101(f) [2008-40]; (4) remedy an inadvertent failure of a variable contract to satisfy the diversification requirements of section 817(h) [2008-41]; and (5) automatically obtain a waiver for certain reasonable errors that caused the contract to fail to satisfy the requirements of section 7702 or 101(f) [2008-42].

Affected Public: Businesses or other for-profit organizations.

Estimated Annual Burden Hours: 5,950.

OMB Number: 1545-2073.

Type of Review: Extension without change of a currently approved collection.

Title: Substitute Mortality Tables for Single Employer Defined Benefit Plans.

Abstract: Revenue Procedure 2008-62 describes the process for obtaining a letter ruling as to the acceptability of substitute mortality tables under section 430(h)(3)(C) of the Internal Revenue Code.

Affected Public: Businesses or other for-profits; Not-for-profit institutions; and Farms.

Estimated Annual Burden Hours: 25,400.

Brenda Simms,
Treasury PRA Clearance Officer.

[FR Doc. 2014-09228 Filed 4-22-14; 8:45 am]

BILLING CODE 4830-01-P